DEPARTMENT OF DEFENSE

Office of the Secretary

Draft Department of Defense Directive 5500.17, “Role and Responsibilities of the Joint Service Committee (JSC) on Military Justice”

AGENCY: General Counsel of the Department of Defense.

ACTION: Notice of availability.

SUMMARY: Executive Order 12473, July 13, 1984, states that the Secretary of Defense shall cause the Manual for Courts-Martial to be reviewed annually and recommend to the President any appropriate amendments. Under the direction of the General Counsel of the Department of Defense, a Joint Service Committee on Military Justice (JSC) has been established to accomplish this review and make recommendations for amendments to the Manual. Department of Defense Directive 5500.17, “Role and Responsibilities of the Joint Service Committee (JSC) on Military Justice” provides for the organization, functions, and procedures applicable to the JSC and the annual review process. The Office of Management and Budget (OMB) has provided all government agencies guidelines for ensuring and maximizing the quality, objectivity, utility, and integrity of information disseminated to the public. OMB has directed the agencies to publish a notice in the Federal Register by May 1, 2002, that their draft policies complying with the OMB requirement are available for public view and comment on their public Web sites. The draft Department of Defense Directive is available on the Deputy General Counsel (Personnel and Health Policy), Office of the General Counsel public Web site located at http://www.defenselink.mil/dodgc/php.

DATES: Consideration will be given to all comments received on or before January 17, 2003.

ADDRESSES: Submit comments to Robert E. Reed. ODGC (P&HP), Office of the General Counsel of the Department of Defense, 1600 Defense Pentagon, Room 3E999, Washington, DC 20301-1600.

FOR FURTHER INFORMATION CONTACT: Mr. Robert E. Reed, ODGC (P&HP), 703-695-1055, reedr@osdgc.osd.mil.

Dated: September 24, 2002.
Patricia L. Toppings,
Alternate OSD Federal Register Liaison Officer, Department of Defense.

[FR Doc. 02-29127 Filed 11-15-02; 8:45 am]

BILLING CODE 5001-08-M